DEPARTMENT OF LABOR

Employment and Training Administration

[TA-W-63,754]

Lane Funiture Industries, Inc., Including Workers whose UI Wages Were Paid by Action Transport, Belden, MS; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on August 20, 2008, applicable to workers of Lane Furniture Industries, Inc., Belden, Mississippi. The notice was published in the Federal Register on September 3, 2008 (73 FR 51529).

At the request of the company official, the Department reviewed the certification for workers of the subject firm. The workers were engaged in the production of upholstered furniture.

New information provided to the Department shows that some workers of the subject firm were former workers from Action Transport that were hired permanently by the subject firm. These workers had their wages reported under the Unemployment Insurance (UI) tax account for Action Transport.

Accordingly, the Department is amending this certification to properly reflect this matter.

The intent of the Department's certification is to include all workers of Lane Furniture Industries, Inc. who were adversely affected by increased imports of upholstered furniture.

The amended notice applicable to TA-W-63,754 is hereby issued as follows:

“All workers of Lane Furniture Industries, Inc., including workers whose wages were paid by Action Transport, Belden, Mississippi, who became totally or partially separated from employment on or after July 28, 2007, through August 20, 2010, are eligible to apply for adjustment assistance under Section 223 of the Trade Act of 1974, and are also eligible to apply for alternative trade adjustment assistance under Section 246 of the Trade Act of 1974.”

Signed at Washington, DC, this 1st day of May 2009.
Elliott S. Kushner,
Certifying Officer, Division of Trade Adjustment Assistance.

[FR Doc. E9-11432 Filed 5-15-09; 8:45 am]

BILLING CODE 4510-FN-P